DEPARTMENT OF JUSTICE

Notice of Lodging of Consent Decree Under the Comprehensive Environmental Response, Compensation, and Liability Act

Notice is hereby given that on January 3, 2005, a proposed Consent Decree in United States of America v. Weyerhaeuser Company, Civil Action No. 1:05CV0003, was lodged with the United States District Court for the Western District of Michigan.

In this action the United States sought to recover from Weyerhaeuser environmental response costs in connection with a landfill and paper mill at the Allied Paper/Portage Creek/Kalamazoo River Superfund Site in Kalamazoo and Portage Counties, Michigan (the “Site”). In addition, the United States sought a judgment declaring that the Defendant is liable for any further response costs that the United States may incur as a result of releases or threatened releases of hazardous substances at the landfill and paper mill. The Consent Decree provides that Weyerhaeuser shall, inter alia, (1) (1) perform the remedy selected by EPA for the landfill area, and investigate and perform the subsequently-selected remedy for the mill property, using at least in part $6.2 million obtained from a bankruptcy settlement; (2) pay all of EPA's costs of overseeing the work; (3) pay approximately $138,000 towards EPA's past costs and $6.2 million into a special account that will be available to EPA to fund remedial investigations and work in the Kalamazoo River, and (4) withdraw its objections to a bankruptcy settlement and its pending appeals from the approval of that settlement.

The Department of Justice will receive for a period of fifteen (15) days from the date of this publication comments relating to the Consent Decree. Comments should be addressed to the Assistant Attorney General, Environment and Natural Resources Division, P.O. Box 7611, U.S. Department of Justice, Washington, DC 20044-7611, and should refer to United States of America v. Weyerhauser Company, D.J. Ref. 90-11-2-07912/2.

The Consent Decree may be examined at the Office of the United States Attorney, Western District of Michigan, 5th Floor, The Law Building, 330 Iona Ave., Grand Rapids, MI 49503, and at the offices of the U.S. Environmental Protection Agency, Region 5, 77 W. Jackson Blvd., Chicago, IL 60604. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose check in the amount of $31.00 (25 cents per page reproduction cost) payable to the U.S. Treasury.

William D. Brighton,
Assistant Chief, Environmental Enforcement Section, Environment and Natural Resources Division.

[FR Doc. 05-642 Filed 1-11-05; 8:45 am]

BILLING CODE 4410-15-M